DEPARTMENT OF THE INTERIOR

National Park Service

[N6751; NPS-WASO-NAGPRA-NPS0041532; PPWOCRADN0-PCU00RP14.R50000]

Notice of Inventory Completion: University of Florida-Florida Museum of Natural History, Gainesville, FL

AGENCY: National Park Service, Interior.

ACTION: Notice.

SUMMARY: In accordance with the Native American Graves Protection and Repatriation Act (NAGPRA), the University of Florida-Florida Museum of Natural History (FLMNH) has completed an inventory of human remains and associated funerary objects and has determined that there is a cultural affiliation between the human remains and associated funerary objects and Indian Tribes or Native Hawaiian organizations in this notice.

DATES: Repatriation of the human remains and associated funerary objects in this notice may occur on or after January 20, 2026.

ADDRESSES: Send written requests for repatriation of the human remains and associated funerary objects in this notice to David Blackburn, University of Florida, Florida Museum of Natural History, 1659 Museum Road, Gainesville, FL 32611, email NagpraOffice@floridamuseum.ufl.edu.

SUPPLEMENTARY INFORMATION: This notice is published as part of the National Park Service's administrative responsibilities under NAGPRA. The determinations in this notice are the sole responsibility of the University of Florida-Florida Museum of Natural History, and additional information on the determinations in this notice, including the results of consultation, can be found in its inventory or related records. The National Park Service is not responsible for the determinations in this notice.

Abstract of Information Available

FLMNH has identified human remains representing at least 90 individuals from seven sites across Duval and St. Johns Counties, Florida in the collections. There are a total of 15,427 associated funerary objects across sites including beads, ceramics, fauna, shell, red ochre, buttons, lead, glass, lithics, and other items. Each site is described individually below.

(1) Brown Saxon (8DU62) is a 9.9-hectare multicomponent site that covers a large section of the interior part of the Theodore Roosevelt Preserve. The site runs parallel to the shoreline, although it is found on the higher ground inland from the marsh's edge. It was originally documented by William H. Sears. Sears performed three FLMNH museum expeditions in 1955, 1957, and 1959. The artifacts and human remains housed in the FLMNH originate from these expeditions. Human remains representing at least 41 individuals have been identified. The 615 associated funerary objects are pottery and fauna remains.

(2) Goodman (8DU66A) is located on the east bank of Mill Cove on the south side of the St. Johns River. In the spring of 1961, through the FLMNH, Douglas F. Jordon conducted excavations of this mound on property owned by Morris Goodman who was in the process of subdividing the land for development. Human remains representing at least 29 individuals have been identified (25 subadults and four adults). The approximately 3,500 associated funerary objects include pottery sherds, worked bone, bone/shell beads, stone tools, shell, and red ochre.

(3) McCormack (8DU66) is a multicomponent site located on the east side of Mill Cove. The site once consisted of a mound (Goodman Mound (8DU66A)) and an extensive shell midden. McCormack was first investigated by William H. Sears in 1955. The results of these excavations showed extensive occupation over long durée. Artifacts and human remains housed at the FLMNH originate from expeditions by Sears. Human remains representing, at least, seven individuals have been identified (one subadult and six adults). The 131 associated funerary objects include 74 catalogs of faunal and shell, as well as 57 catalogs of pottery, glass and lithic from the burial mound context, including Tests one and three.

(4) Potters Fiesta (SA23) is in St. Augustine, St. Johns County, Florida, located south of the present-day plaza in downtown St. Augustine. The holdings at the FLMNH come from excavations carried out at the site by the Historic St. Augustine Preservation Board in 1986. Excavations were undertaken due to proposed development on the parking lot area south of the Fiesta Mall. These excavations revealed that the site ranges from the First Spanish period (1565-1763) to the 20th century, containing late 16th and early 17th century burials that are associated with the St. Augustine parish church of Nuestra Señora de los Remedios (Our Lady of Remedies). All burials at the site were Christian style burials (oriented East-West, shroud burials). Human remains representing at least nine individuals have been identified. The 8,079 associated funerary objects include fragments of iron, ceramic, mortar, buttons, lead, a copper lace tip, charcoal, burned clay, fauna, shell, wood, and slag, among others.

(5) Ribera Gardens (SA12-26) is a historic site in St. Augustine, St. Johns County, Florida. The site includes a midden where this Ancestor was recovered and was excavated by the Historic St. Augustine Preservation Borad (HSAPB) in 1989. These excavations found that the site ranges from the First Spanish period (1565-1763) to the 20th century. In 1999, after the HSAPB was dissolved, collections from this site were transferred to the FLMNH by the State of Florida Legislative mandate. Human remains representing, at least, one individual has been identified. The 747 associated funerary objects include metal, glass, pottery, and other fragments and a button.

(6) Spanish Hospital (SA28-1) is in St. Augustine of St. Johns County, Florida, located south of the present-day plaza in downtown St. Augustine. Excavations at this site were carried out by the Historic St. Augustine Preservation Board (HSAPB) in 1979. The collections from these excavations were later donated to the FLMNH in 1992. The excavations revealed several Christian style burials associated with the St. Augustine Parish Church of Nuestra Señora de los Remedios (Our Lady of Remedies). The burials date to the 16th and early 17th centuries and were disturbed by 18th, 19th, and 20th century activities. Only one burial was recorded to have been excavated and analyzed. Human remains representing, at least, two individuals have been identified. The 188 associated funerary objects include Native American ceramics, clothing, beads, pipes, tools, and gunflint.

(7) Summer Haven (8SJ46) is a prehistoric shell midden located south of the Mantanzas Inlet in St. Johns County, Florida. According to Bullen and Bullen (1961), the site spans the late Orange Period (1000 BC). The excavators describe how the midden had been damaged by road construction in the 1950s. From this midden, the FLMNH houses collections from various museum expeditions led by Ripley P. Bullen, which were transferred from the Florida Park Service and the Anthropology Department at the University of Florida, as well as donations between 1959 and 1982. Human remains representing at least one individual has been identified. There are approximately 2,167 associated funerary objects including fauna, pottery fragments, shell, a pick, a hammer, a fishhook, and other miscellaneous items.

Cultural Affiliation

Based on the information available and the results of consultation cultural affiliation is reasonably identified by the geographical location of the human remains and associated funerary objects described in this notice.

Determinations

The University of Florida-Florida Museum of Natural History has determined that:

• The human remains described in this notice represent the physical remains of 90 individuals of Native American ancestry.

• The 15,427 objects described in this notice are reasonably believed to have been placed intentionally with or near individual human remains at the time of death or later as part of the death rite or ceremony.

• There is a connection between the human remains and associated funerary objects described in this notice and the Miccosukee Tribe of Indians; Seminole Tribe of Florida; and The Muscogee (Creek) Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 20, 2026. If competing requests for repatriation are received, the University of Florida-Florida Museum of Natural History must determine the most appropriate requestor prior to repatriation. Requests for joint repatriation of the human remains and associated funerary objects are considered a single request and not competing requests. The University of Florida-Florida Museum of Natural History is responsible for sending a copy of this notice to the Indian Tribes and Native Hawaiian organizations identified in this notice.

Authority: Native American Graves Protection and Repatriation Act, 25 U.S.C. 3003, and the implementing regulations, 43 CFR 10.10.

Dated: December 3, 2025.
Melanie O'Brien,
Manager, National NAGPRA Program.

[FR Doc. 2025-23339 Filed 12-18-25; 8:45 am]

BILLING CODE 4312-52-P